DEPARTMENT OF TRANSPORTATION

Research and Special Programs Administration

Office of Hazardous Materials Safety; Notice of Applications for Exemptions

AGENCY: Research and Special Programs Administration, DOT.

ACTION: List of applicants for exemptions.

SUMMARY: In accordance with the procedures governing the application for, and the processing of, exemptions from the Department of Transportation's Hazardous Materials Regulations (49 CFR part 107, subpart B), notice is hereby given that the Office of Hazardous Materials Safety has received the applications described herein. Each mode of transportation for which a particular exemption is requested is indicated by a number in the “Nature of Application” portion of the table below as follows: 1—Motor vehicle, 2—Rail freight, 3—Cargo vessel, 4—Cargo aircraft only, 5—Passenger-carrying aircraft.

DATES: Comments must be received on or before February 28, 2003.

ADDRESS COMMENTS TO: Records Center, Research and Special Programs, Administration, U.S. Department of Transportation, Washington, DC 20590.

Comments should refer to the application number and be submitted in triplicate. If confirmation of receipt of comments is desired, include a self-addressed stamped postcard showing the exemption application number.

FOR FURTHER INFORMATION CONTACT: Copies of the applications (see Docket Number) are available for inspection at the New Docket Management Facility, PL-401, at the U.S. Department of Transportation, Nassif Building, 400 7th Street, SW., Washington, DC 20590 or at http://dms.dot.gov.

This notice of receipt of applications for new exemptions is published in accordance with Part 107 of the Federal hazardous material transportation law (49 U.S.C. 5117(b); 49 CFR 1.53(b)).

Issued in Washington, DC, on January 23, 2003.
R. Ryan Posten,
Exemptions Program Officer, Office of Hazardous Materials, Exemptions and Approvals.

New Exemptions
Application No. | Docket No. | Applicant | Regulation(s) affected | Nature of exemption thereof
13188-N | RSPA-03-14314 | General Dynamics, Lincoln, NE | 49 CFR 173.301(f), 173.302(a), 173.34(d) | To authorize the transportation in commerce of certain flammable and nonflammable compressed gases in non-DOT specification filament-wound reinforced plastic lined cylinders, having a maximum service pressure of 7,000 psig, comparable to CGA C-19-2002 FRP-3. (Modes 1, 2, 3.)
13190-N | RSPA-03-14316 | Air Products & Chemicals, Allentown, PA | 49 CFR 177.834(i)(3) | To authorize cargo tanks to be unloaded without meeting the attendance requirements. (Mode 1.)
13192-N | RSPA-03-14315 | Onyx Environmental Services, L.L.C., Flanders, NJ | 49 CFR 173.12(b) | To authorize the transportation in commerce of certain labpack quantities of hazardous materials with shrink-wrap as an overpack without required markings and labels. (Modes 1, 3, 4.)
13194-N |  | Cryogenic Manufacturing and Repair, Inc., Eagle Lake, TX | 49 CFR 173.318, 173.76(g)(1), 178.338-10, 178.338-13(b), (c) | To authorize the manufacture, mark, sale and use of non-DOT specification insulated portable tanks for use in transporting Division 2.2 hazardous materials. (Mode 3.)

[FR Doc. 03-2005 Filed 1-28-03; 8:45 am]

BILLING CODE 4910-60-M